DEPARTMENT OF COMMERCE

International Trade Administration

[A-489-501]

Circular Welded Carbon Steel Standard Pipe and Tube Products From Turkey: Preliminary Results and Partial Rescission of Antidumping Duty Administrative Review; 2021-2022

AGENCY: Enforcement and Compliance, International Trade Administration, Department of Commerce.

SUMMARY: The U.S. Department of Commerce (Commerce) preliminarily determines that the sole mandatory respondent in this administrative review, Borusan Mannesmann Boru Sanayi ve Ticaret A.S. (Borusan Mannesmann) and Borusan Istikbal Ticaret T.A.S. (Istikbal) (collectively, Borusan), a producer and exporter subject to this administrative review, made sales of subject merchandise at less than normal value during the period of review (POR) May 1, 2021, through April 30, 2022. Additionally, based on timely withdrawal of requests for review, we are rescinding this administrative review with respect to all other companies for which we initiated an administrative review. Interested parties are invited to comment on these preliminary results.

DATES: Applicable June 7, 2023.

FOR FURTHER INFORMATION CONTACT: Magd Zalok, AD/CVD Operations, Office IV, Enforcement and Compliance, International Trade Administration, U.S. Department of Commerce, 1401 Constitution Avenue NW, Washington, DC 20230; telephone: (202) 482-4162.

SUPPLEMENTARY INFORMATION:

Background

On July 14, 2022, based on timely requests for a review, in accordance with 19 CFR 351.221(c)(1)(i), we initiated this administrative review of the antidumping duty order ¹ on circular welded carbon steel standard pipe and tube products from Turkey, covering 19 companies.² On August 30, 2022, Commerce selected Borusan as the mandatory respondent for individual examination.³ On October 12, 2022, Nucor Tubular Products Inc. (Nucor), a petitioner in this proceeding, withdrew its request for an administrative review with respect to every company except Borusan.⁴

¹ Antidumping Duty Order; Welded Carbon Steel Standard Pipe and Tube Products from Turkey, 51 FR 17784 (May 15, 1986) (Order).

² See Initiation of Antidumping and Countervailing Duty Administrative Reviews, 87 FR 42144 (July 14, 2022) (Initiation Notice).

³ See Memorandum, “Respondent Selection,” dated August 30, 2022.

⁴ See Nucor's Letter, “Partial Withdrawal of Request for Administrative Review,” dated October 12, 2022 (Nucor's Withdrawal of Review Request).

On January 13, 2023, Commerce extended the preliminary results of this review by 120 days, until May 31, 2023.⁵ For a complete description of the events that followed the initiation of this review, see the Preliminary Decision Memorandum.⁶

⁵ See Memorandum, “Extension of Deadline for the Preliminary Results of the 2021-2022 Antidumping Duty Administrative Review,” dated January 13, 2023

⁶ See Memorandum, “Decision Memorandum for Preliminary Results of Antidumping Duty Administrative Review: Circular Welded Carbon Steel Standard Pipe and Tube Products from Turkey; 2021-2022” dated concurrently with, and hereby adopted by, this notice (Preliminary Decision Memorandum).

Partial Rescission

Pursuant to 19 CFR 351.213(d)(1), Commerce will rescind an administrative review, in whole or in part, if a party who requested the review withdraws the request within 90 days of the date of publication of notice of initiation of the requested review. Nucor timely withdrew its requests for an administrative review with respect to each company listed in the Initiation Notice, other than Borusan.⁷ No other party requested a review of these companies. Accordingly, we are rescinding this review, in part, with respect to these companies, pursuant to 19 CFR 351.213(d)(1). The producers and/or exporters for which we are rescinding the administrative review are listed in Appendix II of this notice.

⁷ See Nucor's Withdrawal of Review Request.

Scope of the Order ⁸

⁸ Antidumping Duty Order; Welded Carbon Steel Standard Pipe and Tube Products from Turkey, 51 FR 17784 (May 15, 1986) (Order).

The merchandise covered by the Order is circular welded carbon steel standard pipe and tube products. For a complete description of the scope of the Order, see the Preliminary Decision Memorandum.⁹

⁹ See Preliminary Decision Memorandum.

Methodology

Commerce is conducting this review in accordance with section 751(a) of the Tariff Act of 1930, as amended (the Act). Export price and constructed export price are calculated in accordance with section 772 of the Act. Normal value is calculated in accordance with section 773 of the Act.

For a full description of the methodology underlying our conclusions, see the Preliminary Decision Memorandum.¹⁰ A list of topics discussed in the Preliminary Decision Memorandum is included at Appendix I to this notice. The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly at https://access.trade.gov/public/FRNoticesListLayout.aspx.

¹⁰ Id.

No Shipment Claims

Between June 12 and August 15, 2022, 11 companies timely submitted letters to Commerce certifying that they had no sales, shipments, or entries of the subject merchandise to the United States during the POR.¹¹ However, as indicated above, because Commerce is rescinding this review for each company listed in the Initiation Notice, except Borusan, Commerce has not made a determination of no shipments for these companies.

¹¹ See Borusan's Letter, “No Shipments Letter,” dated August 15, 2022, in which the following companies certified that they had no entries, exports, or sales of subject merchandise into the United States during the POR: Istikbal, Borusan Birlesik Boru Fabrikalari San ve Tic., Borusan Gemlik Boru Tesisleri A.S., Borusan Ihracat Ithalat ve Dagitim A.S., Tubeco Pipe and Steel Corporation, and Borusan Ithicat ve Dagitim A.S. See also Noksel Çelik Boru Sanayi A.Ş. (Nokse), Letter, “Anti-Dumping Administrative Review (5/1/21-4/30/22),” dated July 22, 2022, in which Noksel certified that it had no entries, export or sales of subject merchandise during the POR; and Boru Sanayi ve Ticaret A.Ş's (Yücel) Letter, “Yücel no shipments letter,” dated June 12, 2022, in which it certified that Yücel, Boru Sanayi ve Ticaret A.Ş., Yücel Boru ve Profil Endüstrisi A.Ş., and their affiliated trading company, Yücelboru Ihracat Ithalat ve Pazarlama A.Ş. (collectively, “Yücel”) had no entries, export or sales of subject merchandise during the POR:.

With respect to Istikbal, one of the companies which certified no shipments during the POR, we continue to find it to be part of the Borusan single entity and we find no record evidence that warrants altering this treatment.¹² Therefore, because we find that Borusan had shipments during this POR, we have not made a preliminary determination of no shipments with respect to Istikbal.

¹² See, e.g., Welded Carbon Steel Standard Pipe and Tube Products from Turkey: Final Results of Antidumping Duty Administrative Review and Final Determination of No Shipments; 2013-2014, 80 FR 76674 (December 10, 2015).

Preliminary Results of Review

We preliminarily determine that the following weighted-average dumping margin exists for the period May 1, 2021, through April 30, 2022:

Exporter/producer | Weighted-average dumping margin (percent)
Borusan Mannesmann Boru Sanayi ve Ticaret A.S./Borusan Istikbal Ticaret T.A.S | 5.44

Assessment Rates

Upon issuance of the final results, Commerce will determine, and CBP shall assess, antidumping duties on all appropriate entries covered by this review.¹³ The final results of this review shall be the basis for the assessment of antidumping duties on entries of merchandise covered by this review and for future deposits of estimated duties, where applicable.¹⁴

¹³ See 19 CFR 351.212(b)(1).

¹⁴ See section 751(a)(2)(C) of the Act.

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Pursuant to 19 CFR 351.212(b)(1), where an examined respondent's weighted-average dumping margin is not zero or de minimis (i.e., less than 0.5 percent) in the final results of this review, we will calculate an importer-specific ad valorem duty assessment rate based on the ratio of the total amount of dumping calculated for the U.S. sales for a given importer to the total entered value of those sales. Where a mandatory respondent did not report entered value, we calculate the entered value in order to calculate the assessment rate. Where either the respondent's weighted-average dumping margin is zero or de minimis within the meaning of 19 CFR 351.106(c)(1), or an importer-specific assessment rate is zero or de minimis, we will instruct CBP to liquidate the appropriate entries without regard to antidumping duties.

For entries of subject merchandise during the POR produced by Borusan for which it did not know that its merchandise was destined for the United States, we will instruct CBP to liquidate such unreviewed entries pursuant to the reseller policy,¹⁵ i.e., the assessment rate for such entries will be equal to the all-others rate established in the investigation (i.e., 14.74 percent ad valorem),¹⁶ if there is no rate for the intermediate company(ies) involved in the transaction.

¹⁵ See Antidumping and Countervailing Duty Proceedings: Assessment of Antidumping Duties, 68 FR23954 (May 6, 2003).

¹⁶ See Order, 51 FR at 17784.

Cash Deposit Requirements

The following deposit requirements will be effective for all shipments of the subject merchandise entered, or withdrawn from warehouse, for consumption on or after the publication date of the final results of this administrative review, as provided by section 751(a)(2)(C) of the Act: (1) the cash deposit rate for Borusan, which is listed above, will be equal to this company's weighted-average dumping margin established in the final results of this review, (except if the ad valorem rate is de minimis within the meaning of 19 CFR 351.106(C)(1), in which case the cash deposit rate will be zero); (2) for previously investigated companies not participating in this review, the cash deposit will continue to be the company-specific rate published for the most recently completed segment of this proceeding in which the company participated; (3) if the exporter is not a firm covered in this review, or the underlying investigation, but the producer is, then the cash deposit rate will be the rate established for the most recently completed segment for the producer of the merchandise; and (4) the cash deposit rate for all other producers or exporters will continue to be 14.74 percent, the all-others rate established in the underlying investigation.¹⁷

¹⁷ Id.

These cash deposit requirements, when imposed, shall remain in effect until further notice.

Disclosure and Public Comment

Commerce intends to disclose the calculations performed in connection with these preliminary results to interested parties within five days after the date of publication of this notice in accordance with 19 CFR 351.224(b).

Interested parties may submit case briefs no later than 30 days after the date of publication of this notice.¹⁸ Rebuttal briefs, limited to issues raised in the case briefs, may be filed not later than seven days after the time limit for filing case briefs.¹⁹ Parties who submit case briefs or rebuttal briefs in this proceeding are encouraged to submit with each argument: (1) a statement of the issue; (2) a brief summary of the argument; and (3) a table of authorities.²⁰ Executive summaries should be limited to five pages total, including footnotes.²¹ Case and rebuttal briefs should be filed using ACCESS and must be served on interested parties.²² Note that Commerce has temporarily modified certain of its requirements for serving documents containing business proprietary information, until further notice.²³

¹⁸ See 19 CFR 351.309(c)(1)(ii); see also 19 CFR 351.303 (for general filing requirements).

¹⁹ See 19 CFR 351.309(d)(1).

²⁰ See 19 CFR 351.309(c)(2) and (d)(2).

²¹ Id.

²² See 19 CFR 351.303.

²³ See Temporary Rule Modifying AD/CVD Service Requirements Due to COVID-19; Extension of Effective Period, 85 FR 41363 (July 10, 2020).

Pursuant to 19 CFR 351.310(c), any interested party who wishes to request a hearing must submit a written request to the Assistant Secretary for Enforcement and Compliance within 30 days of publication of this notice. Hearing requests should contain: (1) the party's name, address, and telephone number; (2) the number of participants; and (3) a list of the issues to be discussed. Issues raised in the hearing will be limited to issues raised in the case and rebuttal briefs. If a request for a hearing is made, Commerce intends to hold the hearing at a time and date to be determined.²⁴ Parties should confirm by telephone the date, time, and location of the hearing two days before the scheduled date.

²⁴ See 19 CFR 351.310(c).

All submissions to Commerce must be filed electronically using ACCESS ²⁵ and must also be served on interested parties.²⁶ An electronically filed document must be received successfully in its entirety by ACCESS, by 5 p.m. Eastern Time (ET) on the date that the document is due.

²⁵ See 19 CFR 351.303.

²⁶ See 19 CFR 351.303(f).

Unless otherwise extended, Commerce intends to issue the final results of this administrative review, which will include the results of its analysis of issues raised in any briefs, within 120 days of publication of these preliminary results, pursuant to section 751(a)(3)(A) of the Act.

Notification to Importers

This notice also serves as a preliminary reminder to importers of their responsibility under 19 CFR 351.402(f) to file a certificate regarding the reimbursement of antidumping duties prior to liquidation of the relevant entries during this review period. Failure to comply with this requirement could result in Commerce's presumption that reimbursement of antidumping duties occurred and the subsequent assessment of double antidumping duties.

Notification to Interested Parties

We are issuing and publishing these results in accordance with sections 751(a)(1) and 777(i)(1) of the Act, and 19 CFR 351.221(b)(4).

Dated: May 31, 2023.
Lisa W. Wang,
Assistant Secretary for Enforcement and Compliance.

Appendix I—List of Topics Discussed in the Preliminary Decision Memorandum

I. Summary

II. Background

III. Scope of the Order

IV. Partial Recission of Administrative Review

V. No Shipment Claims

VI. Discussion of the Methodology

VII. Currency Conversion

VIII. Recommendation

Appendix II—List of Companies for Which the Administrative Review Has Been Rescinded

1. Borusan Birlesik Boru Fabrikalari San ve Tic.

2. Borusan Gemlik Boru Tesisleri A.S.

3. Borusan Holding

4. Borusan Ihracat Ithalat ve Dagitim A.S.

5. Borusan Ithicat ve Dagitim A.S.

6. Borusan Mannesmann Yatirim Holding

7. Cayirova Boru Sanayi ve Ticaret A.S.

8. Çinar Boru Profil San. Ve Tic. Aş.

9. Erbosan Erciyas Boru Sanayi ve Ticaret A.S.

10. Kale Bağlanti Teknolojileri San. ve Tic. A.Ş.

11. Noksel Çelik Boru Sanayi A.Ş

12. Toscelik Metal Ticaret A.Ş.

13. Tosçelik Profil Ve Sac Endüstrisi A.Ş.

14. Tosyali Dis Ticaret A.S.

15. Tubeco Pipe and Steel Corporation

16. Yucel Boru ve Profil Endustrisi A.S.

17. Yucelboru Ihracat Ithalat ve Pazarlama A.S.

[FR Doc. 2023-12115 Filed 6-6-23; 8:45 am]

BILLING CODE 3510-DS-P